SECURITIES AND EXCHANGE COMMISSION

[Release No. 34-44454; File No. SR-CHX-2001-09]

Self-Regulatory Organizations; The Chicago Stock Exchange, Inc.; Order Granting Approval to Proposed Rule Change To Allow Floor Brokers To Clear a Specialist's Post by Telephone

June 20, 2001.

By April 23, 2001, the Chicago Stock Exchange, Inc. (“CHX” or “Exchange”) filed with the Securities and Exchange Commission (“Commission”), pursuant to Section 19(b)(1) of the Securities Exchange Act of 1934 (“Act”) ¹ and Rule 19b-4 thereunder,² a proposed rule change to permit floor brokers to clear a specialist's post by telephone.

¹ 15 U.S.C. 78s(b)(1).

² 17 CFR 240.19b-4.

The proposed rule change was published for comment in the Federal Register on May 16, 2001.³ The Commission received no comments on the proposal.

³ See Securities Exchange Act Release No. 44289 (May 10, 2001), 66 FR 27188.

The Commission finds that the proposed rule change is consistent with the requirements of the Act and the rules and regulations thereunder applicable to a national securities exchange ⁴ and, in particular, the requirements of Section 6 of the Act ⁵ and the rules and regulations thereunder. The Commission finds specifically that the proposed rule change is consistent with Section 6(b)(5) of the Act ⁶ because it will expand the ways in which floor brokers may probe the CHX's market, allowing for greater speed and efficiency, while continuing to satisfy the purpose of CHX Article XX, Rule 10.

⁴ In approving this proposed rule change, the Commission notes that it has considered the proposed rule's impact on efficiency, competition, and capital formation. 15 U.S.C. 78c(f).

⁵ 15 U.S.C. 78f.

⁶ 15 U.S.C. 78f(b)(5).

It is therefore ordered, pursuant to Section 19(b)(2) of the Act,⁷ that the proposed rule change (SR-CHX-2001-09) be, and it hereby is, approved.

⁷ 15 U.S.C. 78s(b)(2).

For the Commission, by the Division of Market Regulation, pursuant to delegated authority.⁸
⁸ 17 CFR 200.30-3(a)(12).
Margaret H. McFarland,
Deputy Secretary.

[FR Doc. 01-15946 Filed 6-22-01; 8:45 am]

BILLING CODE 8010-01-M